DEPARTMENT OF JUSTICE

Drug Enforcement Administration

Manufacturer of Controlled Substances; Notice of Registration

By Notice dated October 8, 1999, and published in the Federal Register on October 18, 1999, (64 FR 56227), Nycomed, Inc., 33 Riverside Avenue, Rensselaer, New York 12144, made application by renewal to the Drug Enforcement Administration (DEA) for registration as a bulk manufacturer of the basic classes of controlled substances listed below:

Drug | Schedule
Methylphenidate (1724) | II
Meperidine (9230) | II

The firm plans to manufacture meperidine as bulk product for distribution to its customers and to manufacture methylphenidate for qualification and distribution to a customer.

DEA has considered the factors in Title 21, United States Code, Section 823(a) and determined that the registration of Nycomed, Inc. to manufacture the listed controlled substances is consistent with the public interest at this time. DEA has investigated Nycomed, Inc. on a regular basis to ensure that the company's continued registration is consistent with the public interest. These investigations have included inspection and testing of the company's physical security system, audits of the company's records, verification of the company's compliance with state and local laws, and a review of the company's background and history. Therefore, pursuant to 21 U.S.C. 823 and 28 CFR §§ 0.100 and 0.104, the Deputy Assistant Administrator, Office of Diversion Control, hereby orders that the application submitted by the above firm for registration as a bulk manufacture of the basic classes of controlled substances listed above is granted.

Dated: February 25, 2000.
John H. King,
Deputy Assistant Administrator, Office of Diversion Control, Drug Enforcement Administration.

[FR Doc. 00-5258 Filed 3-3-00; 8:45 am]

BILLING CODE 4410-09-M